DEPARTMENT OF ENERGY

Environmental Management Site-Specific Advisory Board Chairs

AGENCY: Office of Environmental Management, Department of Energy.

ACTION: Notice of open virtual meeting

SUMMARY: This notice announces an online virtual meeting of the Environmental Management Site-Specific Advisory Board (EM SSAB) Chairs. The Federal Advisory Committee Act requires that public notice of this online virtual meeting be announced in the Federal Register.

DATES: Wednesday, October 6, 2021; 12:00 p.m.-4:15 p.m. EDT, and Thursday, October 7, 2021; 12:00 p.m.-4:00 p.m. EDT

ADDRESSES: Online Virtual Meeting. To attend, please contact Alyssa Harris by email, Alyssa.Harris@em.doe.gov, no later than 5:00 p.m. EDT on Monday, October 4, 2021.

To Submit Public Comment: Public comments will be accepted via email prior to and after the meeting. Comments received no later than 5:00 p.m. EDT on Wednesday, September 29, 2021 will be read aloud during the virtual meeting. Comments will also be accepted after the meeting by no later than 5:00 p.m. EDT on Wednesday, October 13, 2021 to be included in the official meeting record. Please send comments to Alyssa Harris at Alyssa.Harris@em.doe.gov.

FOR FURTHER INFORMATION CONTACT: Alyssa Harris, EM SSAB Federal Coordinator. U.S. Department of Energy, 1000 Independence Avenue SW, Washington, DC 20585. Email: Alyssa.Harris@em.doe.gov.

SUPPLEMENTARY INFORMATION:

Purpose of the Board: The purpose of the Board is to make recommendations to DOE-EM and site management in the areas of environmental restoration, waste management, and related activities.

Tentative Agenda Topics

Wednesday, October 6, 2021

• Update from Principal Deputy Assistant Secretary

• Chairs Round Robin

• Public Comment

• EM-4 Update

• Membership Recruitment and Package Education

• Board Business/Open Discussion

Thursday, October 7, 2021

• FY 2022 Budget Update

• Office of Technology Development Overview

• Public Comment

• Charge #1 Discussion and Path Forward

• Charge #2 Discussion and Path Forward

• Board Business/Open Discussion

Public Participation: The online virtual meeting is open to the public. Written statements may be filed with the Board either before or after the meeting by sending them to Alyssa Harris at the aforementioned email address. The Designated Federal Officer is empowered to conduct the conference call in a fashion that will facilitate the orderly conduct of business. Individuals wishing to make public comments should email them as directed above.

Minutes: Minutes will be available by writing Alyssa Harris at the email address listed above. Minutes will also be available at the following website: https://energy.gov/em/listings/chairs-meetings.

Signed in Washington, DC, on September 2, 2021.
LaTanya Butler,
Deputy Committee Management Officer.

[FR Doc. 2021-19353 Filed 9-7-21; 8:45 am]

BILLING CODE 6450-01-P